DEPARTMENT OF THE TREASURY

Office of Thrift Supervision

First Arizona Savings, FSB, Scottsdale, Arizona; Notice of Appointment of Receiver

Notice is hereby given that, pursuant to the authority contained in section 5(d)(2) of the Home Owners' Loan Act, the Office of Thrift Supervision has duly appointed the Federal Deposit Insurance Corporation as sole Receiver for First Arizona Savings, FSB, Scottsdale, Arizona, (OTS No. 08489) on October 22, 2010.

Dated: October 26, 2010.
By the Office of Thrift Supervision.
Sandra E. Evans,
Federal Register Liaison.

[FR Doc. 2010-27490 Filed 11-1-10; 8:45 am]

BILLING CODE 6720-01-M